DEPARTMENT OF ENERGY

Federal Energy Regulatory Commission

Combined Notice of Filings #2

Take notice that the Commission received the following electric rate filings:

Docket Numbers: ER10-1959-005; ER15-2014-002; ER15-2015-002; ER15-2018-002; ER15-2026-002; ER15-2016-002; ER15-2013-002; ER15-2020-002; ER12-2510-006; ER12-2512-006; ER12-2513-006; ER10-2432-009; ER10-2435-009; ER10-2440-009; ER10-2444-009; ER10-2446-009; ER13-2308-004; ER10-2499-002; ER12-2511-006; ER10-2442-009; ER10-3310-010; ER10-3286-010; ER10-3299-009; ER11-2489-007; ER12-726-006; ER12-2639-005; ER11-3620-009; ER11-2882-010; ER12-1431-007; ER12-1434-007; ER12-1432-007; ER12-1435-007; ER13-2102-005; ER14-1439-004; ER15-1019-003; ER10-2628-004; ER11-3959-006; ER15-2022-002.

Applicants: Lower Mount Bethel Energy, LLC, Brunner Island, LLC, Holtwood, LLC, Martins Creek, LLC, Montour, LLC, Susquehanna Nuclear, LLC, Talen Ironwood, LLC, Talen Energy Marketing, LLC, Talen Montana, LLC, Brandon Shores LLC, H.A. Wagner LLC, Raven Power Marketing LLC, Bayonne Plant Holding, L.L.C., Camden Plant Holding, L.L.C., Dartmouth Power Associates Limited Partnership, Newark Bay Cogeneration Partnership, L.P., Pedricktown Cogeneration Company LP, Sapphire Power Marketing LLC, York Generation Company LLC, C.P. Crane LLC, Elmwood Park Power, LLC, New Harquahala Generating Company, LLC, Millennium Power Partners, L.P., New Athens Generating Company, LLC, Hatchet Ridge Wind, LLC, Spring Valley Wind LLC, Ocotillo Express LLC, Lyonsdale Biomass, LLC, ReEnergy Sterling CT Limited Partnership, ReEnergy Ashland LLC, ReEnergy Fort Fairfield LLC, ReEnergy Livermore Falls LLC, ReEnergy Stratton LLC, ReEnergy Black River LLC, TrailStone Power, LLC, Fowler Ridge IV Wind Farm LLC, Lost Creek Wind, LLC, Post Rock Wind Power Project, LLC.

Description: Notice of Change in Status of the Talen Sellers and Riverstone MBR Entities.

Filed Date: 12/2/15.

Accession Numbers: 20151202-5247, 20151203-5195.

Comments Due: 5 p.m. ET 12/23/15.

Docket Numbers: ER12-2065-003; ER14-2472-003; ER15-1721-002.

Applicants: Agera Energy LLC, Agera Energy LLC, energy.me midwest llc.

Description: Notice of Non-Material Change in Status of Agera Energy LLC, et. al.

Filed Date: 12/3/15.

Accession Number: 20151203-5145.

Comments Due: 5 p.m. ET 12/24/15.

Docket Numbers: ER15-1925-002.

Applicants: Breckinridge Wind Project, LLC.

Description: Breckinridge Wind Project, LLC Notice of Non-material Change in Status.

Filed Date: 12/3/15.

Accession Number: 20151203-5144.

Comments Due: 5 p.m. ET 12/24/15.

Docket Numbers: ER16-456-000.

Applicants: PJM Interconnection, L.L.C., Baltimore Gas and Electric Company, Delmarva Power & Light Company, Atlantic City Electric Company, Potomac Electric Power Company.

Description: Compliance filing: BGE, Delmarva, Pepco & Atlantic City submit compliance filing per 11/3/15 order to be effective 12/3/2015.

Filed Date: 12/3/15.

Accession Number: 20151203-5133.

Comments Due: 5 p.m. ET 12/24/15

Docket Numbers: ER16-457-000.

Applicants: California Independent System Operator Corporation.

Description: § 205(d) Rate Filing: Certificate of Concurrence-Svc Agmt 3480 to be effective 12/2/2015.

Filed Date: 12/3/15.

Accession Number: 20151203-5142.

Comments Due: 5 p.m. ET 12/24/15.

Docket Numbers: ER16-458-000

Applicants: Midcontinent Independent System Operator, Inc.

Description: § 205(d) Rate Filing: 2015-12-03_SA 2078 Notice of Termination G587 GIA to be effective 11/24/2015.

Filed Date: 12/3/15.

Accession Number: 20151203-5169.

Comments Due: 5 p.m. ET 12/24/15.

Docket Numbers: ER16-459-000.

Applicants: Southern California Edison Company.

Description: § 205(d) Rate Filing: GIA and Distribution Service Agmt Windustries Project to be effective 11/24/2015.

Filed Date: 12/3/15.

Accession Number: 20151203-5188.

Comments Due: 5 p.m. ET 12/24/15

Take notice that the Commission received the following electric securities filings:

Docket Numbers: ES16-7-000.

Applicants: PECO Energy Company.

Description: Supplement to October 30, 2015 Application of PECO Energy Company Under Section 204 of the Federal Power Act for Authorization of the Issuance Securities.

Filed Date: 12/3/15.

Accession Number: 20151203-5123.

Comments Due: 5 p.m. ET 12/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2015.
Nathaniel J. Davis, Sr.,
Deputy Secretary.

[FR Doc. 2015-30959 Filed 12-8-15; 8:45 am]

BILLING CODE 6717-01-P